DEPARTMENT OF DEFENSE

GENERAL SERVICES ADMINISTRATION

NATIONAL AERONAUTICS AND SPACE ADMINISTRATION

48 CFR Parts 1, 2, 3, 4, 6, 7, 8, 9, 10, 12, 13, 15, 16, 17, 19, 22, 25, 28, 30, 42, 50, 52, and 53

[FAC 2005-83; FAR Case 2014-022; Correction; Docket 2014-0022; Sequence No. 1]

RIN 9000-AM80

Federal Acquisition Regulation; Inflation Adjustment of Acquisition-Related Thresholds; Correction

AGENCY: Department of Defense (DoD), General Services Administration (GSA), and National Aeronautics and Space Administration (NASA).

ACTION: Final rule; correction.

SUMMARY: DoD, GSA, and NASA are issuing a correction to FAR Case 2014-022; Inflation Adjustment of Acquisition-Related Thresholds (Item I), which was published in the Federal Register at 80 FR 38293, July 2, 2015. The changes to 7.104 and 7.107 are removed from the case because those thresholds are controlled by the Small Business Administration. The other changes are made to correct errors.

DATES: Effective: October 1, 2015.

FOR FURTHER INFORMATION CONTACT: Mr. Michael O. Jackson, Procurement Analyst, at 202-208-4949, for clarification of content. For information pertaining to status or publication schedules, contact the Regulatory Secretariat at 202-501-4755. Please cite FAC 2005-83; FAR Case 2014-022; Correction.

SUPPLEMENTARY INFORMATION:

Corrections

In rule FR Doc. 2015-16206 published in the Federal Register at 80 FR 38293, July 2, 2015, make the following corrections:

7.104 and 7.107 [Corrected]

1. On page 38296, in the center column, remove Part 7 heading and amendatory instruction numbers 14 and 15, amending sections 7.104 and 7.107 respectively.

2. On pages 38296 through 38301, renumber amendatory instruction numbers 16 through 95, as 14 through 93 respectively.

13.003 [Corrected]

3. On page 38297, first column, correct amendatory instruction number 30.a., now renumbered as 28.a., to read as follows:

a. Removing from paragraph (b)(1) “$3,000” and “$15,000” and adding “$3,500” and “$20,000” in their places, respectively.

52.212-5 [Corrected]

4. On page 38300, first column, in paragraph (e)(1)(ii)(C), second line, remove “(Oct 2015)” and add “(Oct 2014)” in its place.

5. On page 38300, first column, in paragraph (e)(1)(ii)(M), first line, remove “52.222-4” and add “52.222-54” in its place.

Authority: 40 U.S.C. 121(c); 10 U.S.C. chapter 137; and 51 U.S.C. 20113.

William Clark,
Director, Office of Government-wide Acquisition Policy, Office of Acquisition Policy, Office of Government-wide Policy.

[FR Doc. 2015-22060 Filed 9-4-15; 8:45 am]

BILLING CODE 6820-EP-P